SOCIAL SECURITY ADMINISTRATION

[Docket No: SSA-2022-0014]

Agency Information Collection Activities: Proposed Request

The Social Security Administration (SSA) publishes a list of information collection packages requiring clearance by the Office of Management and Budget (OMB) in compliance with Public Law 104-13, the Paperwork Reduction Act of 1995, effective October 1, 1995. This notice includes one new, and one revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2022-0014].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0014].

I. The information collection below is pending at SSA. SSA will submit it to OMB within 60 days from the date of this notice. To be sure we consider your comments, we must receive them no later than May 31, 2022. Individuals can obtain copies of the collection instrument by writing to the above email address.

1. Disability Perception Survey (DPS)—0960—NEW

Background

The Social Security Administration's (SSA's) Social Security Disability Insurance (SSDI) program provides crucial financial support to individuals unable to work due to a medical condition. Having access to and understanding information about SSDI among working adults is an important factor in connecting people with benefits. The purpose of the survey to is understand the type of information working adults currently have about the SSDI program to improve projections of disability applications and incidence.

SSA is requesting clearance to administer the Disability Perception Survey (DPS) to a sample of working age adult SSDI program recipients, and those who may qualify for this benefit, to capture attitudes and perceptions about SSDI among working-age adults in the general population, and to determine what roles those factors ultimately play in an individual's decision to apply to the program.

The DPS evaluation will consist of two parts: (1) The DPS survey administered to working-age adults (18 to 64 years of age) SSDI program recipients, and those who may qualify for SSDI benefits; and (2) links of the survey data, including the individuals' social security numbers, to individuals' administrative records for research purpose. SSA will use the data the DPS collects to learn about the average American SSDI adult recipient's knowledge and understanding of the SSDI program and about who qualifies for these benefits. Section 1110(a) of the Social Security Act (Act) gives the Commissioner of Social Security authorization to help fund research or demonstration projects relating to the prevention and reduction of dependency. SSA contracted with NORC at the University of Chicago to conduct the DPS data collection.

DPS Project Description

The DPS survey will focus on a series of multiple-choice, open-ended, and vignette-style questions across five topic areas:

• General knowledge about the SSDI program, including perspectives on the causes of disability, eligibility requirements, the likelihood of receiving benefits, and the documentation required to apply for the program;

• Perceptions about the impact of work-limiting impairments—including how and to what degree people with disabilities participate in the workforce, their work outcomes, use of services, barriers to work, and knowledge about Social Security Administration (SSA) programs designed to help beneficiaries find and keep jobs;

• Thoughts about SSDI based on personal experience or associations with SSDI beneficiaries and others, the likelihood of receiving benefits due to changes in one's personal health status, the impact of reduced financial resources, and factors considered when deciding whether to apply for SSDI;

• Opinions and reactions to how impairments described in brief vignettes of work-limiting and disabling experiences may affect current or future employment; and

• The impact of the COVID-19 pandemic on employment or participation in SSDI or other safety net programs.

The DPS is targeting 5,011 completed interviews among 18-64 year old adults across the U.S. population.

Recruitment

NORC will sample respondents for the study through NORC's AmeriSpeak sampling frame. AmeriSpeak uses a multi-stage probability sample that fully represents the U.S. household population. NORC uses a two-stage process for AmeriSpeak panel recruitment:

• Initial recruitment: NORC will invite panelists to participate in the DPS by email and or SMS text, with an invitation through the AmeriSpeak member web portal, which alerts panelist there is a survey available to them. The participant will receive an email with the survey URL which allows them to log into AmeriSpeak. NORC will also invite panelists who previously indicated their preference for responding to surveys by telephone. For those who request a telephone survey, NORC's telephone interviewers will call the respondent and ask them to participate in the survey, if the respondent wants to participate NORC will conduct the survey.

• Non-response follow-ups: NORC will sample a portion of non-responders and follow-up with a face-to face recruitment of the sampled non-responders. Non-response follow-up reduces non-response bias significantly by improving the representativeness of the AmeriSpeak Panel with respect to certain hard-to-reach segments of the population underrepresented by recruitment relying only on mail and telephone.

Eligibility criteria include those ages 18-64 years old who understand English or Spanish, and who have the ability to provide informed consent as well as a Social Security Number.

Participants in the DPS will receive the Informed Consent as part of the first screens of the survey. If NORC conducts the survey by telephone, the interviewer will review the main points on the consent with the participant. The Informed Consent, whether online or read by the interviewer, will include:

• The purpose of the survey and the primary topics addressed in the survey questions;

• The information that the respondents may withdraw at any time;

• The voluntary nature of the study;

• A statement that the information collected is completely confidential and will not be used by SSA for the purposes of determining eligibility for benefits, nor for purposes other than research or program evaluation;

• The approximate time it will take to complete the survey;

• The incentive amount for participation, and how the respondent will receive their incentive;

• Information on who to call if they have questions about their rights as a survey participants;

If the respondents give their informed consent, but cannot provide their SSN, the survey will end, and the respondent will not continue further. Survey participants will receive $20 as reimbursement for completing the DPS.

Following the emailing of the survey URL, NORC will follow up 10 times over the course of a 32-week field period to remind respondents to complete the survey. NORC will send the participants reminder scripts both by email and text messages to complete the survey. NORC will also send reminders by mail, via a reminder letter and postcard. The respondents are working adults (age 18-64) SSDI program recipients, and those who may qualify for SSDI benefits for SSDI benefits.

Type of Request: Request for a new information collection.

Modality of completion | Number of respondents | Frequency of response | Average burden per response (minutes) | Estimated total annual burden (hours) | Average theoretical hourly cost amount (dollars) * | Total annual opportunity cost (dollars) **
DPS (Web version) | 4259 | 1 | 17 | 1,207 | * $10.95 | ** $13,217
DPS (Phone version) | 752 | 1 | 17 | 213 | * 10.95 | ** 2,332
Totals | 5,011 |  |  | 1,420 |  | $15,549
* We based this figure on the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

2. COVID-19 Symptoms Screener for In-Person Hearings, and VIPr Mobile Application and Telephone Screener for Office Visits—20 CFR 404.929, 404.933, 416.1429, 416.1433, 418.1350, 422.103-422.110, and 422.203-0960-0824.

Background

During the recent COVID-19 pandemic, SSA conducted its services almost exclusively online or by telephone, to protect the health of both the public and our employees. We took these measures in accordance with relevant Centers for Disease Control COVID-19 pandemic guidance, and to comply with existing Occupational Safety and Health Act provisions regarding workplace safety.

While in-person hearings have not been available since March 2020, claimants or their appointed representatives who wished to appeal a redetermination could choose to participate in an online video hearing or phone hearing instead. In addition, SSA also restricted in-person field office visits to limited appointments only, with prioritization of requests for new Social Security Number cards. During this period, we used the initial version of the CDC-suggested COVID-19 screening symptoms questionnaire with people who had these limited field office appointments.

We made the questionnaire available for in-office visits via telephone or SSA mobile application (VIPr App). We required satisfactory answers to the screening questions, i.e., demonstrating that field office visitors did not demonstrate symptoms of COVID-19 and had not been exposed to someone with COVID-19, for the appointment to proceed. If the individuals answered yes to any of the COVID screening questions, we offered them the option of completing their interview via video teleconferencing or using our online options, or we offered to reschedule their in-person interview for a later date.

We are resuming in-person hearings and field office visits on a limited-capacity basis. Initially, we plan to keep the number of in-person hearings to an average of three separate hearings per hearings office per day, to ensure the continued health and safety of the public and SSA employees. We also plan to keep the number of in-person field office visits to a limited number, based on the capacity of each field office, but hope to also allow for walk-ins, as we expand our plans for reentry. We may revise the number of in-person hearings per hearing office or reassess our capacity per field office for in-person visits, over the course of reentry; therefore, our information for the public and the unions make it clear that the screener questions are subject to revision as workplace safety guidance changes.

Information Collection Description

Because of COVID-19 health and safety considerations, we plan to continue requiring all members of the public entering an SSA field office for a visit, or a hearing office to participate in an in-person hearing, to complete a brief screener questionnaire designed to identify COVID-19 symptoms.

For individuals visiting a hearings office, we may provide a link to the screener questionnaire in the mailed notice of scheduled hearings. People participating in a hearing can complete and submit the questionnaire online within 24 hours before the start of the hearing. If hearings participants do not wish to use the internet, they can call the hearings office where the hearing is scheduled and complete the questionnaire over the phone.

Similarly, we may give field office visitors the option of completing the screener questionnaire through SSA's mobile application, VIPr, prior to entering the building. We also have a poster in our field office windows visible from the outside instructing visitors about the need to complete the screening questionnaire and about our masking policies. We will continue to request satisfactory completion of the screener in advance of entering the building as a prerequisite for entering the field office.

SSA's screener questionnaire asks questions relating to personal experience of any COVID symptoms; exposure to someone diagnosed with COVID; or travel by means other than land travel, such as car, bus, ferry, or train. SSA uses the screener responses to determine if the participant is “cleared” or “not cleared” to enter an SSA field or hearing office. If participants answer “no” to all questions, they are “cleared” to participate. If they answer “yes” to any part of the screener, they will be considered “not cleared.” Individuals who are not cleared may request SSA to provide an alternative service method or reschedule their visit.

Alternatives To Completing the Information Collection

Although we will continue to require completion of the screener questionnaire any in-person hearing or field office visit, we do not require this screener questionnaire for other modalities of appeals hearings, or field office services. One may choose an online video hearing or telephone hearing as an alternative to an in-person hearing, just as we also have online and telephone services for field office transactions. Claimants may obtain Social Security payments regardless of the hearing method they choose, and field office visitors may submit their documentation using our internet services, telephone requests, or by mailing their documentation to SSA.

The respondents are beneficiaries or applicants requesting an in-person hearing, or members of the public entering a field office.

Type of Request: Revision of an OMB-approved information collection.

Modality of completion | Number of respondents | Frequency of response | Average burden per response (minutes) | Estimated total annual burden (hours) | Average theoretical hourly cost amount (dollars) * | Average wait time in office or for teleservice centers (minutes) ** | Total annual opportunity cost (dollars) ****
COVID Screener Questionnaire | 359,160 | 1 | 10 | 59,860 | * $19.01 | ** 10 | **** $2,275,877
VIPr Mobile App | 16,554 | 1 | 5 | 1,380 | * 27.07 | *** 21 | **** 194,200
Telephone Screener | 661,554 | 1 | 10 | 110,259 | * 27.07 | *** 21 | **** 9,252,607
Totals | 1,037,268 |  |  | 171,499 |  |  | **** 11,722,684
* We based the Covid Screener Questionnaire figure on averaging both the average DI payments based on SSA's current FY 2021 data (https://www.ssa.gov/legislation/2021FactSheet.pdf), and the average U.S. worker's hourly wages, as reported by Bureau of Labor Statistics data (https://www.bls.gov/oes/current/oes_nat.htm). We based the VIPr Mobile App and Telephone Screener on the average U.S. worker's hourly wages, as reported by Bureau of Labor Statistics data (https://www.bls.gov/oes/current/oes_nat.htm#00-0000).
** We based this figure on the average FY 2022 wait times for hearing offices, based on SSA's current management information data.
*** We based this figure on the average FY 2022 wait times for field offices and teleservice centers, based on SSA's current management information data.
**** This figure does not represent actual costs that SSA is imposing on recipients of Social Security payments to complete this application; rather, these are theoretical opportunity costs for the additional time respondents will spend to complete the application. There is no actual charge to respondents to complete the application.

Dated: March 25, 2022.
Naomi Sipple,
Reports Clearance Officer, Social Security Administration.

[FR Doc. 2022-06734 Filed 3-29-22; 8:45 am]

BILLING CODE 4191-02-P